DEPARTMENT OF HOMELAND SECURITY

Coast Guard

33 CFR Part 117

[Docket No. USCG-2012-0108]

Drawbridge Operation Regulation; Lake Pontchartrain, Between Jefferson and St. Tammany Parishes, LA

AGENCY: Coast Guard, DHS.

ACTION: Notice of temporary deviation from regulations.

SUMMARY: The Commander, Eighth Coast Guard District has issued a temporary deviation from the regulations governing the operation of the north bascule span of the Greater New Orleans Expressway Commission Causeway across Lake Pontchartrain between Metairie, Jefferson Parish and Mandeville, St. Tammany Parish, Louisiana. This deviation allows the draws of the bridge to remain closed to navigation for four days to allow for the repair and maintenance of mechanical parts of the bascule.

DATES: This deviation is effective from 6 a.m. on Tuesday, March 13, 2012 until 6 p.m. on Friday, March 16, 2012.

ADDRESSES: Documents mentioned in this preamble as being available in the docket are part of docket USCG-2012-0108 and are available online by going to http://www.regulations.gov, inserting USCG-2012-0108 in the “Keyword” box and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Wetherington, Bridge Specialist, Eighth Coast Guard District Bridge Branch, U.S. Coast Guard; telephone 504-671-2128 or email james.r.wetherington@uscg.mil. If you have questions on viewing the docket, call Renee V. Wright, Program Manager, Docket Operations, telephone 202-366-9826.

SUPPLEMENTARY INFORMATION: The Greater New Orleans Expressway Commission requested a temporary deviation from the published regulation for the Greater New Orleans Expressway Commission Causeway bascule bridge across Lake Pontchartrain. The bridge provides 42.6 feet of vertical clearance when closed above mean high water, and unlimited clearance above MHW in the open-to-navigation position. Currently, according to 33 CFR 117.467(b), the draw of the Greater New Orleans Expressway Commission Causeway bascule bridge shall open on signal if at least three hours notice is given; except that the draw need not be open for the passage of vessels Monday through Fridays except Federal holidays, from 5:30 a.m. to 9:30 a.m. and 3 p.m. to 7 p.m.. The draw will open on signal for any vessel in distress or vessel waiting immediately following the closures listed above.

This deviation allows the bridge to remain closed to navigation for four (4) days from 6 a.m. on March 13, 2012 through 6 p.m. on March 16, 2012.

Navigation on the waterway consists mainly of recreational vessels. The Coast Guard has coordinated the closure with other Coast Guard units. These dates and this schedule were chosen to minimize the effects on vessel traffic; however, vessels that may pass under the bridge in the closed-to-navigation position can do so any anytime. The bridge will not be able to open for emergencies.

In accordance with 33 CFR 117.35, this work will be performed with flexibility in order to return the bridge to normal operations as soon as possible. This deviation from the operating regulations is authorized under 33 CFR 117.35.

Dated: February 10, 2012.
David M. Frank,
Bridge Administrator.

[FR Doc. 2012-4919 Filed 2-29-12; 8:45 am]

BILLING CODE 9110-04-P